DEPARTMENT OF AGRICULTURE

Forest Service

Uinta-Wasatch-Cache National Forest; Utah; Uinta Express Pipeline Project

AGENCY: Forest Service, USDA.

ACTION: Notice of intent to prepare an environmental impact statement.

SUMMARY: Uinta Express Pipeline Company LLC, a subsidiary of Tesoro Refining & Marketing Company LLC, has submitted a special use application requesting authorization to construct and maintain a crude oil pipeline from the Uinta Basin to Salt Lake City, Utah. The project is known as the Uinta Express Pipeline (“Project”). The Uinta-Wasatch-Cache National Forest (UWCNF) is responding to the application to determine if a special use authorization should be granted, what terms and conditions such an authorization should contain, and evaluate if any project specific land use plan amendments may be required. The objective of Project proponents is to transport crude oil from the Uinta Basin and transport it via pipeline rather than trucks for refining in Salt Lake City. The pipeline and its alternatives are comprised of approximately 120 to 135 miles of underground 12-inch pipeline and ancillary facilities.

DATES: Comments concerning the scope of the analysis must be received by 45 days from date of publication in the Salt Lake Tribune (Newspaper of Record). The draft environmental impact statement is expected in winter of 2014 and the final environmental impact statement is expected spring of 2015.

ADDRESSES: Send written comments to Uinta-Wasatch-Cache Forest Supervisor's Office, Attn: Nelson Gonzalez-Sullow, 857 West South Jordan Parkway, South Jordan, UT 84095-8594. Comments may also be sent via email to uwc_info@fs.fed.us or via facsimile to (801) 253-8118.

FOR FURTHER INFORMATION CONTACT: Larry Lucas, Recreation and Lands Staff Officer by phone at (801) 999-2157 or by email at lclucas@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The UWCNF is intending to develop an Environmental Impact Statement in response to the applicants request for a special use authorization.

The objective of the project applicant is to seek permission from the UWCNF to transport crude oil from the Uinta Basin via pipeline rather than trucks for refining in Salt Lake City. The pipeline is comprised of approximately 135 miles of underground 12-inch pipeline and ancillary facilities. Approximately 14 miles are proposed to cross NFS land administered by the UWCNF.

The construction of this project is desired to provide a safer and more efficient transportation route for crude oil produced in the Uinta Basin of Utah.

Production of crude oil within Duchesne County, Utah has increased from 8.7 Million Barrels (MM BBL) in 2008 to 11.9 MM BBL in 2011. Production in 2012 was nearly 14 MM BBL, and 2013 is on pace for 18 MM BBL. This represents a 54% increase over the last five years. New drilling technology continues to improve the ability for economical extraction of Uinta Basin crude. The majority of this production is currently transported via tanker truck to Salt Lake City.

The oil produced from the Uinta Basin is paraffinic crude that is not compatible with the current pipeline infrastructure in Utah. The product must be maintained at an elevated temperature in order to flow through a pipeline. Other pipelines in the area were not designed to maintain the temperatures that Uinta crude requires. Therefore, the Uinta crude is currently loaded into trucks and transported via road to refineries. The unique composition of the Uinta crude also hinders its transportation to markets outside of the Salt Lake metropolitan area.

Several refineries in the Salt Lake metropolitan area have announced planned upgrades to increase the capacity to process crude produced in Utah, including the Uinta Basin.¹ These planned upgrades will take advantage of the relatively lower price of locally produced crude. The project provides infrastructure to deliver typically lower priced, locally produced crude oil to market in an environmentally responsible and safe manner.

¹ Salt Lake Tribune, 6/1/2012; http://www.sltrib.com/sltrib/money/54044681-79/utah-refinery-oil-crude.html.csp; Accessed 8/21/2012.

The planned increases in production and refining capacities have state lawmakers and transportation officials concerned about the capacity and capability of the existing highway infrastructure.² The construction of the project considers pipeline transmission as more viable long-term method of delivery to the Salt Lake metropolitan area. In addition, the project considers it a benefit to the public by removing a portion of the tanker truck traffic from the highways in the region thereby potentially reducing the cost of highway maintenance and upgrades.

² Salt Lake Tribune, 8/15/2012; http://www.sltrib.com/sltrib/money/54703446-79/uinta-crude-transportation-basin.html.csp; Accessed 8/21/2012.

Proposed Action

Five principal facilities will be located along the project, one origin station and four intermediate stations. The origin station will consist of truck offloading racks, product storage, pumps, launcher/receivers, piping, valves, fittings, and power generation. This origination facility would be located on private property and would be approximately 20 acres. The four intermediate stations for the project are approximately five acres each and located on private property. There are seven main line block valves locations and other minor above ground appurtenances that also will be located on private property.

The project would be constructed primarily on private lands and cross approximately 14 miles of NFS land administered by the UWCNF, U.S. Forest Service (FS). The proposed pipeline right-of-way would be a minimum of 50-feet wide and up to 100-feet wide on National Forest System lands once constructed (right-of-way may be wider off of NFS lands). Many areas of the proposed pipeline route would utilize existing pipeline right-of-way routes or utility corridors and parallel Chevron, Questar and Kern River pipelines. The pipeline is further described as 12″ carbon steel pipe, .375 WT, API 5L, X52, insulated (HDPE) jacketed, externally coated, and buried at a minimum depth of three feet. System pressure designs are currently projected to be between 1,200 and 1,400 psi maximum operating pressure (MOP).

Possible Alternatives

A route review and investigation was conducted that identified three options:

• Northern Route (Proposed Action)

• East Canyon Route

• Southern Route

The northern route is generally a 135 mile option that parallels portions of the existing Chevron crude pipeline for the first 40 miles from the origin point to Francis, UT. From Francis, the pipeline bears north to Coalville, UT in many areas paralleling existing Questar distribution pipelines. At Coalville it meets with the Kern River natural gas pipeline. The pipeline would then parallel the Kern River pipeline to about the top of the Wasatch Range. From here the route would roughly parallel a Questar natural gas pipeline west to the town of Bountiful, UT, and on to the east side of Utah Highway 67. The pipeline would then bear south connecting to multiple Salt Lake area refineries.

The east canyon route is generally a 135-mile option that follows the northern route for the first 90 miles, then bears west to the Park City area. From Park City, the pipeline would parallel East Canyon Creek to join with the Kern River pipeline. The pipeline would then parallel the Kern River pipeline to about the top of the Wasatch Range. From here the route would roughly parallel a Questar natural gas pipeline west to the town of Bountiful, UT, and on to the east side of Utah Highway 67. The pipeline would then bear south connecting to multiple Salt Lake area refineries.

The southern route is generally a 120-mile option that follows the northern route for the first 90 miles and then roughly parallels the existing Chevron crude oil pipeline into and through Salt Lake City connecting to multiple Salt Lake area refineries.

The northern route was identified as the proposed action, based principally on permitting and “Right of Way” (ROW) acquisition, minimizing areas of disturbance, and utilizing previously established utility corridors, despite being the longest route of the proposed options.

Under all alternatives, approximately 14 miles are on NFS land and the remainder on private lands. The segments crossing NFS land follow forest plan (both Uinta and Wasatch-Cache Forest Plans were revised in 2003) designated utility corridors. The right-of-way would be a minimum of 50-feet wide and up to 100-feet wide on NFS land once constructed (right-of-way may be wider off of NFS land). Many reaches of the pipeline route would utilize existing pipeline routes or utility corridors and parallel Chevron, Questar and Kern River pipelines right-of-way. These existing corridors form portions of the boundaries of 4 Inventoried Roadless Area (IRAs). Under all alternatives, the project would be located outside of the IRAs on the opposite (non-roadless) side of the existing pipeline, except at one point where two of these IRAs come together and encroachment into an IRA cannot be avoided. At this point, the project must cross the tip of the 8,810 acre Nobletts IRAs. Routing around the IRAs is not feasible. No roads will be constructed in IRAs, but a small amount of incidental tree clearing (<1.0 acre) will be required at this point.

Responsible Official

Uinta-Wasatch-Cache National Forest Supervisor.

Nature of Decision To Be Made

The decision to be made is whether or not to approve grantng a special use authorization for the construction and maintenance of the Uinta Express Pipeline.

Preliminary Issues

Preliminary issues are the effects of the project on transportation safety, air quality, visual resources, surface and groundwater quality, noise levels, land use (including roadless area impact), vegetation and wildlife.

Scoping Process

This notice of intent initiates the 45-day scoping process, which guides the development of the environmental impact statement.

Two open house meetings will be held—one in Bountiful City and another in Heber City—to provide stakeholders and the general public with information about the proposed project and to provide a forum for submitting comments.

• Wednesday, February 19, 2014; 6-8 p.m., Wasatch High School, Heber City, UT

• Thursday, February 20, 2014; 6-8 p.m., Bountiful High School, Bountiful, UT

Written comments will be accepted throughout the 45-day period. Comments can be hand delivered from 8:00 a.m. to 4:30 p.m., Monday through Friday, excluding federal holidays. Electronic comments must be submitted in a format such as an email message, rich text format (.rtf) or Word (.doc) to uwc_info@fs.fed.us, by facsimile to (801) 253-8118, or to: Nelson Gonzalez-Sullow, Uinta-Wasatch-Cache National Forest Supervisor's Office, 857 West South Jordan Parkway, South Jordan, UT 84095-8594.

It is important that reviewers provide their comments at such times and in such manner that they are useful to the agency's preparation of the environmental impact statement; therefore, comments should be provided prior to the close of the 45-day scoping period and should clearly articulate the reviewer's concerns and contentions. The scoping period begins when the Legal Notice is published in The Salt Lake Tribune.

Comments received in response to this solicitation, including names and addresses of those who comment, will be part of the public record for this proposed action. Comments submitted anonymously will be accepted and considered, however.

Dated: January 21, 2014.
David C. Whittekiend,
Forest Supervisor.

[FR Doc. 2014-01692 Filed 1-28-14; 8:45 am]

BILLING CODE 3410-11-P